DEPARTMENT OF AGRICULTURE

Agricultural Marketing Service

7 CFR Part 1208

[FV-02-710]

Fresh Cut Flowers and Fresh Cut Greens Promotion and Information Order; Termination

Correction

In rule document 03-453 beginning on page 1364 in the issue of Friday, January 10, 2003 make the following correction:

On page 1364, in the third column, under EFFECTIVE DATE “February 10, 2002” should read, “February 10, 2003”.

[FR Doc. C3-453 Filed 1-14-03; 8:45 am]

BILLING CODE 1505-01-D

DEPARTMENT OF DEFENSE

Department of the Army

Proposed Collection; Comment Request

Correction

In notice document 02-32814 beginning on page 79573 in the issue of Monday, December 30, 2002, make the following corrections:

1. On page 79573, in the third column, in the DATES section, in the second line, “February 25, 2003” should read, “February 28, 2003”.

2. On the same page, in the same column, under the FOR FURTHER INFORMATION CONTACT heading, in the Titles section, in the fourth line, “0702\0064” should read, “0702-0064”.

[FR Doc. C2-32814 Filed 1-14-03; 8:45 am]

BILLING CODE 1505-01-D

DEPARTMENT OF THE TREASURY

Office of Thrift Supervision

12 CFR Part 550

[No. 2002-57]

RIN 1550-AB49

Recordkeeping and Confirmation Requirements for Securities Transactions; Fiduciary Powers of Savings Associations

Correction

In rule document 02-31005 beginning on page 76293 in the issue of Thursday, December 12, 2002, make the following correction:

§ 550.70 [Corrected]

On page 76298, in the table, in § 550.70, in the column titled “Then”, in the second line from the bottom, “...or file a that are notice with OTS” should read, “...or file a notice with OTS.”

[FR Doc. C2-31005 Filed 1-14-03; 8:45 am]

BILLING CODE 1505-01-D